DEPARTMENT OF THE INTERIOR

National Park Service

[NPS-WASO-NAGPRA-11893; 2200-1100-665]

Notice of Inventory Completion: The Museum of Anthropology at Washington State University, Pullman, WA

AGENCY: National Park Service, Interior.

ACTION: Notice.

SUMMARY: The Museum of Anthropology has completed an inventory of human remains and associated funerary objects, in consultation with the appropriate Indian tribe, and has determined that there is a cultural affiliation between the human remains and associated funerary objects and the Confederated Tribes of the Colville Reservation. Representatives of any Indian tribe that believes itself to be culturally affiliated with the human remains and associated funerary objects may contact the Museum of Anthropology at Washington State University. Repatriation of the human remains associated funerary items to the Confederated Tribes of the Colville Reservation may occur if no additional claimants come forward.

DATES: Representatives of any Indian tribe that believes it has a cultural affiliation with the human remains and associated funerary objects should contact the Museum of Anthropology at Washington State University at the address below by February 11, 2013.

ADDRESSES: Mary Collins, Museum of Anthropology at Washington State University, Pullman, WA 99164-4910, telephone (509) 335-4314.

SUPPLEMENTARY INFORMATION: Notice is here given in accordance with the Native American Graves Protection and Repatriation Act (NAGPRA), 25 U.S.C. 3003, of the completion of an inventory of human remains and associated funerary objects in the possession of the Museum of Anthropology at Washington State University, Pullman, WA. The human remains and associated funerary objects were removed from Stevens County, WA.

This notice is published as part of the National Park Service's administrative responsibilities under NAGPRA, 25 U.S.C. 3003(d)(3). The determinations in this notice are the sole responsibility of the museum, institution, or Federal agency that has control of the Native American human remains associate funerary objects. The National Park Service is not responsible for the determinations in this notice.

Consultation

A detailed assessment of the human remains was made by the Museum of Anthropology at Washington State University professional staff in consultation with representatives of the Confederated Tribes of the Colville Reservation.

History and Description of the Remains

In 1980, human remains representing, at minimum, six individuals were removed by a county road crew from the Addy Sand Pit in Stevens County, WA. The remains include the nearly complete skeletal remains of an adult male, the nearly complete skeleton of an adult of unknown sex, the partial post cranial remains of an adult of unknown sex, the complete cranial and partial post cranial remains of a juvenile of unknown sex, and the partial cranial and post cranial remains of two juveniles of unknown sex. The remains were transferred to archaeologists from the University of Idaho, who recorded the location as archaeological site 45ST296. In 2000, the remains were transferred to the Museum of Anthropology at Washington State University. No known individuals were identified. The three associated funerary objects include one lot of shell and animal bone fragments, one stone flake, and one dentalia shell bead.

In 1981, human remains representing, at minimum, three individuals were removed from a disturbed talus slope area near Addy, WA, by unknown persons. The location has been described as archaeological site 45ST297. The remains were transferred to the Stevens County Coroner in June of 1981. The coroner transferred the remains to the University of Idaho the following month. In 2000, the remains were transferred to the Museum of Anthropology at Washington State University. No known individuals were identified. No associated funerary objects are present.

In 1983, human remains representing, at minimum, five individuals were removed by a private homeowner who was building a basement in the community of Kettle Falls in Stevens County, WA. The remains were transferred to archaeologists from the University of Idaho who recorded the location as archaeological site 45ST312. In 2000, the remains were transferred to the Museum of Anthropology at Washington State University. No known individuals were identified. The 32 associated funerary objects are 3 battered cobbles, 13 tabular stone knives, 1 glass bottleneck fragment, 1 glass button, 1 bone fishing leister point, 10 stone flakes, and 3 lots of charcoal fragments.

These sites are within the traditional territory of the Confederated Tribes of the Colville Reservation. Historical, ethnographic, linguistic, and archaeological information links these sites to the Confederated Tribes of the Colville Reservation.

Determinations Made by the Museum of Anthropology at Washington State University

Officials of the Museum of Anthropology at Washington State University have determined that:

• Pursuant to 25 U.S.C. 3001(9), the human remains described in this notice represent the physical remains of 14 individuals of Native American ancestry.

• Pursuant to 25 U.S.C. 3001(3)(A), the 35 objects described above are reasonably believed to have been placed with or near individual human remains at the time of death or later as part of the death rite or ceremony.

• Pursuant to 25 U.S.C. 3001(2), there is a relationship of shared group identity that can be reasonably traced between the Native American human remains and associated funerary objects and the Confederated Tribes of the Colville Reservation.

Additional Requestors and Disposition

Representatives of any Indian tribe that believes itself to be culturally affiliated with the human remains and associated funerary objects should contact Mary Collins, Museum of Anthropology at Washington State University Pullman, WA 99164-4910, telephone (509) 335-4314, before February 11, 2013. Repatriation of the human remains and associated funerary objects to the Confederated Tribes of the Colville Reservation may proceed after that date if no additional claimants come forward.

The Museum of Anthropology at Washington State University is responsible for notifying the Confederated Tribes of the Colville Reservation that this notice has been published.

Dated: December 7, 2012.
Melanie O'Brien,
Acting Manager, National NAGPRA Program.

[FR Doc. 2013-00417 Filed 1-10-13; 8:45 am]

BILLING CODE 4312-50-P